DEPARTMENT OF COMMERCE

International Trade Administration

[C-560-821, C-570-907, C-580-857]

Coated Free Sheet Paper from Indonesia, the People's Republic of China and the Republic of Korea: Notice of Postponement of Preliminary Determinations in the Countervailing Duty Investigations

AGENCY: Import Administration, International Trade Administration, Department of Commerce.

EFFECTIVE DATE: December 29, 2006.

FOR FURTHER INFORMATION CONTACT: Dana Mermelstein or Sean Carey (Indonesia), David Layton or David Neubacher (PRC), and Eric Greynolds or Darla Brown (Korea), AD/CVD Operations, Import Administration, International Trade Administration, U.S. Department of Commerce, 14th Street and Constitution Avenue, NW, Washington, DC 20230; telephone: (202) 482-0371 and (202) 482-5823, (202) 482-1391 and (202) 482-3964, and (202) 482-6071 and (202) 482-2849, respectively.

SUPPLEMENTARY INFORMATION:

Background

On November 20, 2006, the Department of Commerce (the Department) initiated the countervailing duty investigations of coated free sheet paper (CFS) from Indonesia, the People's Republic of China (PRC) and the Republic of Korea (Korea). See Notice of Initiation of Countervailing Duty Investigations: Coated Free Sheet Paper From the People's Republic of China, Indonesia, and the Republic of Korea, 71 FR 68546 (November 27, 2006). Currently, the preliminary determinations are due no later than January 24, 2007.

Postponement of Due Date for Preliminary Determinations

On December 19, 2006, NewPage Corporation (petitioner) submitted letters requesting that the Department postpone the preliminary determinations of the countervailing duty investigations of CFS from Indonesia, the PRC and Korea by 65 days. Under section 703(c)(1)(A) of the Act, the Department may extend the period for reaching a preliminary determination in a countervailing duty investigation until not later than the 130th day after the date on which the administering authority initiates an investigation if the petitioner makes a timely request for an extension of the period within which the determination must be made under subsection (b) (section 703(b) of the Act). Accordingly, we are extending the due date for the preliminary determinations by 65 days to no later than March 30, 2007.

This notice is issued and published pursuant to section 703(c)(2) of the Act.

Dated: December 22, 2006.
David M. Spooner,
Assistant Secretary for Import Administration.

[FR Doc. E6-22417 Filed 12-28-06; 8:45 am]

BILLING CODE 3510-DS-S